ENVIRONMENTAL PROTECTION AGENCY

[EPA-HQ-OPPT-2006-0358; FRL-8059-9]

Reporting for the 2006 Inventory Update Rule (IUR) Information Collection; Notice of Public Workshop

AGENCY: Environmental Protection Agency (EPA).

ACTION: Notice.

SUMMARY: EPA is convening a public workshop to provide training for persons responsible for submitting information during the 2006 Inventory Update Reporting (IUR) period. The workshop will focus on reporting requirements, case studies, the electronic IUR software, and submission of IUR information through the Internet. The IUR requirements were modified by amendments to 40 CFR part 710 promulgated on January 7, 2003 (68 FR 847) (FRL-6767-4) and December 19, 2005 (70 FR 75059) (FRL-7743-9). This workshop is open to the public.

DATES: The workshop will be held on May 22, 2006 from 8:30 a.m. to 3:30 p.m.

ADDRESSES: The workshop will be held at the Millennium Hotel, 200 South Fourth Street, St. Louis, Missouri.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Franklyn Hall, Economics, Exposure, and Technology Division (7406M), Office of Pollution Prevention and Toxics, Environmental Protection Agency, 1200 Pennsylvania Ave., NW., Washington, DC 20460-0001; telephone number: (202) 564-8522; e-mail address: hall.franklyn@epa.gov.

SUPPLEMENTARY INFORMATION:

I. General Information

A. Does this Action Apply to Me?

You may be potentially affected by this action if you manufacture chemical substances currently subject to reporting under the IUR as amended on January 7, 2003 (68 FR 847) and December 19, 2005 (70 FR 75059) and codified as 40 CFR part 710. Persons who process chemical substances but who do not manufacture or import chemical substances are not subject to the requirements of 40 CFR part 710. Potentially affected entities may include, but are not limited to:

• Chemical manufacturers and importers currently subject to the IUR (NAICS codes 325, 32411), e.g., manufacturers and importers of inorganic chemical substances.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions at 40 CFR 710.48. If you have any questions regarding the applicability of this action to a particular entity, consult the technical person listed under FOR FURTHER INFORMATION CONTACT.

B. How Can I Get Copies of this Document and Other Related Information?

1. Docket. EPA has established a docket for this action under docket identification (ID) number EPA-HQ-OPPT-2006-0358. Publicly available docket materials are available electronically at http://www.regulations.gov or in hard copy at the OPPT Docket, EPA Docket Center (EPA/DC), EPA West, Rm. B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access You may access this Federal Register document electronically through the EPA Internet under the “Federal Register” listings at http://www.epa.gov/fedrgstr.

II. Background

EPA is convening a workshop to train stakeholders on how to report for the 2006 Partial Updating of the TSCA Chemical Substance Inventory. EPA is required by section 8(b) of the Toxic Substances Control Act (TSCA) to compile and update an inventory of chemical substances manufactured or imported into the United States. Every four years, manufacturers (including importers) of certain chemical substances on the TSCA Chemical Substance Inventory have been required to report data specified in the TSCA section 8(a) IUR, 40 CFR part 710. Past updates included information on the chemical's production volume, site-limited status, and plant site information. Amendments to the IUR promulgated on January 7, 2003 (68 FR 847) and December 19, 2005 (70 FR 75059) expanded the data reported on certain chemicals to assist EPA and others in screening potential exposures and risks resulting from manufacturing, processing, and use of TSCA chemical substances. At the same time, EPA amended the IUR regulations to increase the production volume threshold which triggers reporting requirements from 10,000 pounds per year to 25,000 pounds per year and established a new higher threshold of 300,000 pounds per year above which manufacturers must report additional information on downstream processing and use of their chemical substances. The 2003 amendments to the IUR also revoked the exemption from reporting for inorganic chemical substances, provided a partial exemption from reporting of processing and use information for chemical substances of low current interest, continued the current exemption from reporting for polymers, microorganisms, and naturally occurring chemical substances, and increased the interval between collection periods from four years to five years. These changes modify requirements for information collected in calendar year 2005 and submitted in 2006 and thereafter. The workshop may be of interest to persons currently reporting under the IUR and to manufacturers and importers of inorganic chemical substances.

The workshop will include a series of presentations by representatives of EPA on reporting for the 2006 Partial Updating of the TSCA Chemical Substance Inventory. Subjects discussed will include reporting requirements, instructions for completing the reporting form, how to assert confidentiality claims, how to submit completed reports to EPA, case studies illustrating different aspects of reporting, the electronic IUR software, and submission of IUR data through the Internet. During the workshop, persons in attendance will be able to ask questions regarding the material being presented. The purpose of this workshop is to provide training to persons who must report in 2006 under the IUR regulation.

III. How Can I Request to Participate in this Workshop?

You may register to participate in this workshop on the IUR Web site located at http://www.epa.gov/oppt/iur. There is a workshop registration link on this Web site that will allow you to provide all necessary information for participation. There is no charge for attending this public workshop.

List of Subjects

Environmental protection, Chemicals, Reporting and recordkeeping requirements.

Dated: April 19, 2006.
Charles M. Auer,
Director, Office of Pollution Prevention and Toxics.

[FR Doc. E6-6308 Filed 4-25-06; 8:45 am]

BILLING CODE 6560-50-S